DEPARTMENT OF ENERGY

Federal Energy Regulatory Commission

Project Nos. 2778-005, 2777-007, 2061-004, 1975-014

Idaho Power Company, Notice of Intention to Hold a Public Meeting February 28th in Boise, Idaho for Discussion of the Draft Environmental Impact Statement for the Mid-Snake River Hydroelectric Projects

February 4, 2002.

On January 17, 2002, the Commission staff delivered the Mid-Snake River Hydroelectric Projects ( Shoshone Falls, Upper Salmon Falls, Lower Salmon Falls and Bliss ) Draft Environmental Impact Statement (DEIS) to the U.S. Environmental Protection Agency, resource and land management agencies, and interested organizations and individuals. The DEIS evaluates the environmental consequences of the continued operation of the Mid-Snake River Hydroelectric Projects in Idaho.

The DEIS was noticed in the Federal Register and comments are due March 27, 2002.

Commission staff will conduct a public meeting to present the DEIS findings, answer questions about the findings and solicit public comment on the DEIS. The public meeting will be recorded by a court reporter, and all meeting statements (oral or written) will become part of the Commission's public record of this proceeding.

The meeting will be held Thursday, February 28, 2002 in the Merlins Room, at the Boise Centre on the Grove, 850 West Front Street, (Grove Plaza Entrance), Boise Idaho. Two meeting times are scheduled: 9:30a.m.—4:00 p.m. for agencies and organizations and 7:00—9:30 p.m. for the public. Anyone may attend one or both meetings.

For further information, please contact John Blair, at (202) 219-2845, Federal Energy Regulatory Commission, Office of Energy Projects, 888 First Street NE, Washington, DC 20426.

Magalie R. Salas
Secretary

[FR Doc. 02-3210 Filed 2-8-02; 8:45 am]

BILLING CODE 6717-01-P